DEPARTMENT OF THE INTERIOR

Bureau of Reclamation

Kit Fox Mitigation Area Closure

AGENCY: Bureau of Reclamation, Interior.

ACTION: Notice of closure of public lands to public access.

SUMMARY: The Bureau of Reclamation is temporarily closing 171 acres of Federal land to public access. The closure will protect a mitigation area for the San Joaquin kit fox. The closure includes all lands, waters, and facilities within the fence enclosure west and east of the San Luis Canal and adjacent to the San Luis Canal Right of Way in Merced County, California.

EFFECTIVE DATES: This closure is effective from February 3, 2003 until November 1, 2007.

ADDRESSES: A map of the closed area is available for inspection at the Bureau of Reclamation's South Central California Office, located at 1243 N Street, Fresno, California 93721. The map may be viewed between the hours of 8 a.m. and 4 p.m., Monday through Friday. To have a map mailed to your address, call Mr. Dan Holsapple at 559-487-5409.

FOR FURTHER INFORMATION CONTACT: Mr. Dan Holsapple, Bureau of Reclamation, telephone: 559-487-5409.

SUPPLEMENTARY INFORMATION: Following is the closure order:

By virtue of the authority vested in the authorized officer of this notice, under the regulations of the Secretary of the Interior, 43 CFR part 423, public access to the following facilities, lands, or waters is closed until November 1, 2007:

Kit Fox Mitigation Area—The closure area includes all lands, waters, and facilities within the fence enclosure west and east of the San Luis Canal and adjacent to the San Luis Canal Right of Way in Merced County. Property consists of approximately 171 acres.

The following acts are prohibited on the facilities, lands, and waters in the closure area:

1. Trespassing, entering, or remaining in or upon the closure areas described above. Exceptions: Operations and Maintenance personnel that have express authorization from Reclamation, law enforcement officers and Reclamation employees acting within the scope of their employment, and any others who have received express written authorization from Reclamation to enter the closure areas.

2. Tampering or attempting to tamper with the facilities, structures, or other property located within the closure areas or moving, manipulating, or setting in motion any of the parts thereof. Exceptions: see 1 above.

3. Vandalism or destroying, injuring, defacing, or damaging property or real property that is not under one's lawful control or possession.

4. Depositing or abandoning any refuse, agricultural wastes, hazardous materials/waste, vehicles, tires, or any other items not expressly authorized by Reclamation.

5. Grazing of sheep, cattle or any other livestock within the closure area without written permit from Reclamation or their managing agent.

6. Surface occupancy unless specifically authorized and permitted by Reclamation.

This order is posted in accordance with 43 CFR 423.3(b). Violations of this prohibition or any prohibition listed in 43 CFR part 423 are punishable by fine, or imprisonment for not more than 6 months, or both.

Dated: October 17, 2002.
Frank Michny,
Regional Environmental Officer, Mid-Pacific Region.

[FR Doc. 03-2391 Filed 1-31-03; 8:45 am]

BILLING CODE 4310-MN-P